SECURITIES AND EXCHANGE COMMISSION

[Release No. 34-56375A; File No. SR-NASD-2004-183]

Self-Regulatory Organizations; National Association of Securities Dealers, Inc. (n/k/a Financial Industry Regulatory Authority, Inc.); Notice of Filing of Amendment Nos. 3 and 4 and Order Granting Accelerated Approval of the Proposed Rule, as Amended, Related to Sales Practice Standards and Supervisory Requirements for Transactions in Variable Annuities

September 14, 2007.

Correction

In FR Document No. E7-18022, beginning on page 52403 for Thursday, September 13, 2007, at the third column of page 52410, first full paragraph, beginning on line 24, revise “120 days” to read “180 days”.

Florence E. Harmon,
Deputy Secretary.

[FR Doc. E7-18415 Filed 9-18-07; 8:45 am]

BILLING CODE 8010-01-P